DEPARTMENT OF TRANSPORTATION

Office of the Secretary

Applications for Certificates of Public Convenience and Necessity and Foreign Air Carrier Permits

Notice of Applications for Certificates of Public Convenience and Necessity and Foreign Air Carrier Permits Filed Under Subpart B (formerly Subpart Q) during the Week Ending December 15, 2012. The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0204.

Date Filed: December 11, 2012.

Due Date for Answers, Conforming Applications, or Motion to Modify Scope: January 2, 2013.

Description: Application of National Air Cargo Group, Inc. d/b/a National Airlines requesting an exemption and amended certificate of public convenience and necessity authorizing it to conduct scheduled foreign air transportation of persons, property and mail between a point or points in the United States, a point or points in the United Arab Emirates, and beyond to a point or points in Afghanistan and a point or points in Iraq.

Docket Number: DOT-OST-2012-0205.

Date Filed: December 11, 2012.

Due Date for Answers, Conforming Applications, or Motion to Modify Scope: January 2, 2013.

Description: Application of National Air Cargo Group, Inc. d/b/a National Airlines requesting an amended certificate of public convenience and necessity authorizing it to conduct interstate scheduled air transportation of persons, property and mail with large aircraft. National Airlines also requests an exemption to conduct such service while this application is pending.

Barbara J. Hairston,
Acting Program Manager, Docket Operations, Federal Register Liaison.

[FR Doc. 2013-00573 Filed 1-11-13; 8:45 am]

BILLING CODE 4910-9X-P